DEPARTMENT OF HEALTH AND HUMAN SERVICES

Centers for Medicare & Medicaid Services

[CMS-5504-N3]

Medicare Program; Bundled Payments for Care Improvement Model 1 Open Period

AGENCY: Centers for Medicare & Medicaid Services (CMS), HHS.

ACTION: Notice.

SUMMARY: This notice announces an open period for additional organizations to be considered for participation in Model 1 of the Bundled Payments for Care Improvement initiative.

DATES: Model 1 of the Bundled Payments for Care Improvement Deadline: Interested organizations must submit a Model 1 Open Period Information Intake form by July 31, 2013.

FOR FURTHER INFORMATION CONTACT:

BPModel1@cms.hhs.gov for questions regarding Model 1 of the Bundled Payments for Care Improvement initiative. For additional information on this initiative go to the CMS Center for Medicare and Medicaid Innovation Web site at http://innovation.cms.gov/initiatives/BPCI-Model-1/index.html.

SUPPLEMENTARY INFORMATION:

I. Background

We are committed to achieving better health, better care, and lower costs through continuous improvement for Medicare, Medicaid and Children's Health Insurance Program (CHIP) beneficiaries. Beneficiaries can experience improved health outcomes and encounters in the health care system when providers work in a coordinated and person-centered manner. To this end, we are interested in partnering with providers that are working to redesign care to meet these goals. Payment approaches that reward providers that assume payment accountability at the individual level for a particular “episode” of care are potential mechanisms for developing these partnerships.

The CMS Center for Medicare and Medicaid Innovation (Innovation Center) is testing four episode payment models. Testing of the first model, Model 1 of the Bundled Payments for Care Improvement initiative, began in April 2013 following a review of applications submitted in response to a Request for Application released by the Innovation Center in August 2011. For additional information about Model 1 of the Bundled Payments for Care Improvement initiative that began in April 2013, please visit the Innovation Center Web site as specified in the FOR FURTHER INFORMATION CONTACT section of this notice.

The Innovation Center is announcing an open period for additional organizations to be considered for participation in Model 1 of the Bundled Payments for Care Improvement initiative. Interested organizations can find information about the intake process, eligible organizations, and model requirements on the Web site as specified in the FOR FURTHER INFORMATION CONTACT section of this notice.

II. Provisions of the Notice

We seek to achieve the following goals through implementation, consistent with the authority under section 1115A of the Social Security Act (the Act), as added by section 3021 of the Affordable Care Act, to test innovative payment and service delivery models that reduce spending under Medicare, Medicaid, or CHIP, while preserving or enhancing the quality of care:

• Improve care coordination, beneficiary experience, and accountability in a person-centered manner.

• Support and encourage providers that are interested in continuously reengineering care to deliver better care and better health at lower costs through continuous improvement.

• Create a cycle that leads to continually decreasing the cost of an acute or chronic episode of care while fostering quality improvement.

• Develop and test payment models that create extended accountability for better care, better health at lower costs for the full range of health care services.

• Shorten the cycle time for adoption of evidence-based care.

• Create environments that stimulate rapid development of new evidence-based knowledge.

We are announcing an open period for additional organizations to be considered for participation in Model 1 of the Bundled Payments for Care Improvement initiative. Acute care hospitals paid under the inpatient prospective payment systems (IPPS) and organizations that wish to convene acute care hospitals in a facilitator convener role are eligible to be considered for participation in Model 1. Interested organizations must submit a Model 1 Open Period Information Intake form for a copy of the form go to the CMS Web site as specified in the FOR FURTHER INFORMATION CONTACT section of this notice. Once organizations submit the intake form to BPModel1@cms.hhs.gov, we will review the information provided and screen organizations for suitability for participation in Model 1. For information on the screening process go to the CMS Center for Medicare and Medicaid Innovation Web site as specified in the FOR FURTHER INFORMATION CONTACT section. We expect to offer Model 1 participation agreements to those organizations that demonstrate their fitness for participation in Model 1. More information about the participation process and model requirements can be found on the Web site as specified in the FOR FURTHER INFORMATION CONTACT section of this notice.

III. Collection of Information Requirements

Section 1115A(d) of the Act waives the requirements of the Paperwork Reduction Act of 1995 for purposes of testing and evaluation of new models or expansion of such models under section 1115A under this section.

Authority: Section 1115A of the Social Security Act (42 U.S.C. 1315a)

(Catalog of Federal Domestic Assistance No. 93.773 Medicare—Hospital Insurance Program; and No. 93.774, Medicare—Supplementary Medical Insurance Program)

Dated: May 3, 2013.
Marilyn Tavenner,
Acting Administrator, Centers for Medicare & Medicaid Services.

[FR Doc. 2013-11819 Filed 5-16-13; 8:45 am]

BILLING CODE 4120-01-P